FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 8, 2009.

A. Federal Reserve Bank of Minneapolis (Jacqueline G. King, Community Affairs Officer) 90 Hennepin Avenue, Minneapolis, Minnesota 55480-0291:

1. Cullen Thompson, Houston, Texas, and Betsy Lehman, Fort Morgan, Colorado, to join a group acting in concert, consisting of Carveth and Margaret Thompson, Lead, South Dakota; Gary and Nancy Vance, Faith, South Dakota; Eldon Jensen, Lemmon, South Dakota; and Morris Gustafson, Faith, South Dakota; and acquire voting shares of Faith Bank Holding Company, and thereby indirectly acquire voting shares of Farmers State Bank, both of Faith, South Dakota.

B. Federal Reserve Bank of San Francisco (Kenneth Binning, Vice President, Applications and Enforcement) 101 Market Street, San Francisco, California 94105-1579:

1. Donald B. Marron; BOTC Holdings LLC; Lightyear Fund II, L.P.; Lightyear Co-Invest Partnership II, L.P.; Lightyear Fund II GP, L.P.; Lightyear Fund II GP Holdings, LLC; Marron & Associates, LLC; Chestnut Venture Holdings, LLC; Lightyear Capital LLC; and Lightyear Capital II, LLC, all of New York, New York; to acquire voting shares of Cascade Bancorp, and thereby indirectly acquire voting shares of The Bank of the Cascades, both of Bend, Oregon.

Board of Governors of the Federal Reserve System, November 18, 2009.
Robert deV. Frierson,
Deputy Secretary of the Board.

[FR Doc. E9-28033 Filed 11-20-09; 8:45 am]

BILLING CODE 6210-01-S